DEPARTMENT OF AGRICULTURE

Forest Service

Payette National Forest, Idaho; Lick Timber Sale

AGENCY: Forest Service, USDA.

ACTION: Notice of intent to prepare an environmental impact statement.

SUMMARY: The USDA Forest Service will prepare the Lick Timber Sale environmental impact statement (EIS). The proposed action in the EIS is to reduce fuels, manage forest vegetation, enhance northern Idaho ground squirrel (NIDGS) habitat, and manage roads. The EIS will analyze the effects of the proposed action and alternatives. The agency gives notice of the full National Environmental Policy Act (NEPA) analysis and decision making process on the proposal so interested and affected members of the public may participate and contribute to the final decision. The Payette National Forest invites written comments and suggestions on the scope of the analysis and the issues to address.

DATES: Comments must be received in writing by August 12, 2002.

ADDRESSES: Send written comments to Faye L. Krueger, Council District Ranger at P.O. Box 567, Council, Idaho, 83612. Faxes should be sent to 208-253-0109 and e-mails to fkrueger@fs.fed.us.

FOR FURTHER INFORMATION CONTACT: Questions about the proposed project and scope of analysis should be directed to Sam Feider, Team Leader, at the above address, or phone at (208) 253-0100.

SUPPLEMENTARY INFORMATION: The analysis area is about 25 air miles north-northwest of Council, Idaho, in Adams County. The area can be reached by taking Forest Road #002 (Council-Cuprum Road) to Forest Road #143 (Lick Creek Road). The project area consists of National Forest System lands located in Township 20N, Range 2W, in all or portions of sections 9, 10, 15-17, 20-23, and 26-35, Boise Meridian and in Township 19N, Range 2W, in all or portions of sections 2-10, and 15-18, Boise Meridian. It is located entirely within the 6,922-acre Middle Lick subwatershed, and a small portion (4,237 acres) of the Upper Lick subwatershed. The proposed action will be in compliance with the Payette National Forest Land and Resource Management Plan (Forest Plan of 1988), as amended), which provides overall guidance for management of this area.

Purpose and Need for Action

The purpose and need for the proposed action is to: (1) Improve timber stand growth and yield, (2) Reduce the incidence and hazard of insect and disease in timbered stands through harvest and salvage, (3) Reduce the risk of wildland fire to forestland, investments, adjacent private lands, and facilities, (4) Reduce the potential of sediment delivery to Lick Creek and its tributaries from roads, and eliminate roads unneeded for future management, and (5) Enhance suitable habitat for northern Idaho ground squirrels to meet habitat management and recovery plan goals. The proposal has four main objectives it would achieve. It would: (1) Reduce the risk of extreme fire behavior (crown fire) in the Upper Lick Creek and Middle Lick drainages. This in turn would: (a) Reduce the risk that wildfire would damage and/or destroy tree plantations in the project area, thereby maintaining past investments; (b) protect private land investments; (c) provide an area that would allow firefighters to safely suppress an escaped wildfire; and (d) provide a foundation to expand future fuels reduction activities into other portions of the Bear Watershed. (2) Reduce overstocked timber stands and plantations through timber harvest and thinning. This in turn would: (a) improve seral tree species health and decrease opportunities for insect and disease outbreaks, (b) improve tree growth by reducing the competition between trees for sunlight, moisture, and nutrients, (c) reforest with seral tree species, and (d) contribute to the Council District's portion of the Payette National Forest allowable sale quantity. (3) Enhance northern Idaho ground squirrel habitat to facilitate population recovery, and (4) Design a transportation system that responds to human access needs while reducing impacts and improving watershed conditions for hydrologic function, soil productivity, and fisheries and wildlife habitat. This in turn would: (a) improve the hydrologic function and productivity on soils committed to roads that may no longer be needed for future management, (b) reduce current and potential sediment delivery to streams from roads, especially within Riparian Conservation Areas (RCAs), (c) reduce overall road densities, especially in landslide prone areas and riparian habitat conservation areas to improve geomorphic integrity and water quality integrity, (d) reduce or improve stream crossings to decrease the “hydrologic connectivity” between roads and streams, (e) improve fish passage at road crossings, (f) avoid management activities that have the potential to increase stream temperatures in Wildhorse River; a downstream 303(d) listed Waterbody, (g) avoid additional cumulative impacts to the Snake River; a downstream 303(d) listed Waterbody, and (h) manage open road densities to maintain the Forest Plan Elk Habitat Effectiveness (EHE) rating in Issue Reporting Area (IRA) 117 to Forest Plan Standards. Within IRA 118, manage open road densities to Forest Plan Standards that occur within the Lick Project Area (approximately ⅓ of IRA 118 overlaps the project area).

Proposed Action

The Proposed Action would reduce fuels, manage forest vegetation, enhance NIDGS habitat, and manage roads. (1) Reduce Fuels—Use mechanical thinning and harvesting, and prescribed fire treatments on approximately 1,200 acres. (2) Manage Forest Vegetation—(a) Use ground-based, skyline, and helicopter yarding systems to harvest timber on approximately 1,438 acres. The harvest prescriptions would encompass 163 acres of reserve tree (retain 3-10 healthy seral trees per acre), 51 acres of shelterwood seed-cut (retain 10-15 healthy seral trees per acre), 999 acres of commercial thin/sanitation salvage, and an additional 233 acres of precommercial thin. Reforestation treatments would include 260 acres, of which approximately 171 acres would require plantation fencing. (b) Reduce generated fuels and/or prepare sites for planting by underburning or piling and burning of logging slash. (3) Enhance Northern Idaho Ground Squirrel Habitat—(a) Use mechanical thinning and prescribed fire on about 225 acres to restore suitable NIDGS habitat to historical conditions. Within the Lick Creek corridor, shade-tolerant conifer tree species (grand fir and to some extent Douglas-fir) would be thinned, while retaining the large, old ponderosa pine or Douglas-fir. (b) Reintroduce fire following thinning to rejuvenate the herbaceous vegetation. (c) Install temporary fencing around the area to exclude cattle and hasten recovery. (4) Manage Roads—(a) Construct 4.0 miles of new roads (close following project implementation), and decommission 26.6 miles of existing roads (8.9 miles of classified roads and 17.7 miles of non-classified roads). (b) Close year-round approximately 12.9 miles of road that are currently open year-round and/or seasonally.

Responsible Official

The responsible official is the Forest Supervisor of the Payette National Forest.

Scoping Process

Public notices have been placed in local and regional newspapers. A public meeting is anticipated to occur following issuance of the draft EIS. The meeting will be announced in the Payette National Forest's newspaper of record, the Idaho Statesman, Boise, Idaho.

Preliminary Issues

The proposed action may generate six preliminary issues. [We pay for Federal Register notices, and long ones get expensive. We rarely get comments about issue background statements appearing in Federal Register notices. I would abbreviate and save govt. money as follows.] (1) Effects on Water Quality. (2) Effects on Fisheries (3) Effects on Wildlife Habitat. (4) Effects on Noxious Weeds. (5) Effects on Recreation. (6) Effects of Road Construction and Decommissioning.

Design features for the Proposed Action will help reduce or eliminate other possible impacts (visual resource, heritage resources, water quality, soils, fisheries, wildlife, etc.).

Early Notice of Importance of Public Participation in Environmental Review

A draft environmental impact statement will be prepared for comment. The comment period on the draft environmental impact statement will be 45 days from the date the Environmental Protection Agency publishes the notice of availability in the Federal Register.

The Forest Service believes at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues raised by the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: July 3, 2002.
Mark J. Madrid,
Forest Supervisor.

[FR Doc. 02-17302 Filed 7-9-02; 8:45 am]

BILLING CODE 3410-11-M